DEPARTMENT OF THE INTERIOR

Fish and Wildlife Service

[FWS-R4-R-2008-N0283; 40135-8451-0000-P1]

Center Point Energy (CPE), Right-of-Way Permit Application To Cross Cache River National Wildlife Refuge, Jackson County, AR

AGENCY: Fish and Wildlife Service, Interior.

ACTION: Notice of application for a natural gas pipeline Right-of-Way.

SUMMARY: The U.S. Fish and Wildlife Service is soliciting public comment on a Right-of-Way (ROW) permit application submitted by Center Point Energy (CPE) to install a 4-inch natural gas pipeline in a 10-feet wide by 850-feet wide right-of-way across a portion of the Cache River National Wildlife Refuge in Jackson County, Arkansas. Installation of the gas pipeline will require the issuance of a ROW permit.

DATE: Interested persons desiring to comment on this application must do so by December 3, 2008. We will consider public comments received or postmarked by that date.

ADDRESSES: Comments or requests for additional information should be addressed to Ms. Angela Thompson, U.S. Fish and Wildlife Service (Realty), 1875 Century Boulevard, Suite 420, Atlanta, Georgia 30345, telephone 404-679-7200; fax 404-679-7273 or e-mail to: angela_thompson@fws.gov.

FOR FURTHER INFORMATION CONTACT: For copies of documents and to ask project questions, see “Document Availability.”

SUPPLEMENTARY INFORMATION:

A. Background

The Arkansas Highway and Transportation Department is replacing an unsafe wooden bridge on County Road 51, Jackson County, Arkansas. The proposed right-of-way will require realignment of a 762-foot section of a 4-inch natural gas pipeline that runs beneath the eastern edge of the wooden bridge on County Road 51. To install the pipeline, CPE will utilize horizontal directional drilling to cross a section of the Refuge and the Cache River. The entry and exit pits will be located in the gravel roadbed; the northern pit will be 50 feet from the northern end of the bridge and the southern pit will be 120 feet from the southern end of the bridge. The new alignment will run along the east side of the new bridge and 24 feet from the centerline of the existing road. The new pipeline right-of-way will run 4 feet below the riverbed, and across a strip of land lying in Jackson County, in the State of Arkansas.

B. Document Availability

Pursuant to the National Environmental Policy Act of 1969 (NEPA), the U.S. Fish and Wildlife Service prepared a Categorical Exclusion (CX), Environmental Action Statement (EAS) and was a cooperator in preparation of a Final Environmental Impact Statement (EIS) by the Federal Energy Regulatory Commission (FERC) assessing the impacts of constructing and operating the proposed natural gas pipeline. A copy of the CX is available from the Cache River National Wildlife Refuge Complex, 26320 Hwy 33 South, Augusta, Arkansas 72006, (870) 347-2614. The final EIS has been placed in the public files of the FERC and is available for public inspection at: Federal Energy Regulatory Commission, Public References and Files Maintenance Branch, 888 First Street, NE., Room 2A, Washington, DC 20426, (202) 502-8371. Additional information about the Project is available from the FERC's Office of External Affairs, 1(866) 208-FERC or on the FERC Web site (http://www.ferc.gov).

If you wish to comment, you may do so by one of the following methods. You may mail comments to the above address. You may also comment via the Internet at the following address: angela_thompson@fws.gov. Please include your name and return address in your Internet message. If you do not receive a confirmation from the system that we have received your Internet message, contact us at the above phone number or address. Our practice is to make comments, including names and addresses of respondents, available for public review during regular business hours. Individual respondents may request that we withhold their home address from the record, which we will honor to the extent allowable by law.

The Fish and Wildlife Service is the principal federal agency responsible for conserving, protecting, and enhancing fish, wildlife, and plants and their habitats for the continuing benefit of the American people.

Authority: The authority to publish this notice is contained in 30 U.S.C. 185(k).

Dated: October 28, 2008.
Cynthia K. Dohner,
Acting Regional Director.

[FR Doc. E8-26121 Filed 10-31-08; 8:45 am]

BILLING CODE 4310-55-P